DEPARTMENT OF DEFENSE

Department of the Navy

Privacy Act of 1974; System of Records

AGENCY: Department of the Navy, DoD.

ACTION: Notice to delete two Systems of Records.

SUMMARY: The Department of the Navy is deleting two system of records in its existing inventory of record systems subject to the Privacy Act of 1974 (5 U.S.C. 552a), as amended.

DATES: This proposed action will be effective without further notice on March 27, 2008 unless comments are received which result in a contrary determination.

ADDRESSES: Send comments to the Department of the Navy, PA/FOIA Policy Branch, Chief of Naval Operations (DNS-36), 2000 Navy Pentagon, Washington, DC 20350-2000.

FOR FURTHER INFORMATION CONTACT: Mrs. Doris Lama at (202) 685-6545.

SUPPLEMENTARY INFORMATION: The Department of the Navy systems of records notices subject to the Privacy Act of 1974 (5 U.S.C. 552a), as amended, have been published in the Federal Register and are available from the address above.

The Department of the Navy proposes to delete two system of records notices from its inventory of record systems subject to the Privacy Act of 1974 (5 U.S.C. 552a), as amended. The proposed deletion is not within the purview of subsection (r) of the Privacy Act of 1974 (5 U.S.C. 552a), as amended, which requires the submission of new or altered systems reports.

Dated: February 19, 2008.
L.M. Bynum,
Alternate, OSD Federal Register Liaison Officer, Department of Defense.

N11101-2

SYSTEM NAME:

Family Housing Requirements Survey Records System (June 8, 1999, 64 FR 30501).

REASON:

Program discontinued and all records have been destroyed.

N11103-01

SYSTEM NAME:

Housing Referral Services Record System (February 22, 1993, 58 FR 10817).

REASON:

Program discontinued and all records have been destroyed.

[FR Doc. E8-3600 Filed 2-25-08; 8:45 am]

BILLING CODE 5001-06-P